DEPARTMENT OF ENERGY

National Coal Council

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Friday, May 21, 2010 9 a.m. to Noon.

ADDRESSES: The Fairmont Hotel, 2401 M Street, NW., Washington, DC 20037.

FOR FURTHER INFORMATION CONTACT: Michael J. Ducker, U.S. Department of Energy; 4G-036/Forrestal Building, 1000 Independence Avenue, SW., Washington, DC 20585-1290; Telephone: 202-586-7810.

SUPPLEMENTARY INFORMATION:

Purpose of Meeting: To conduct an open meeting of the NCC and to approve of a new NCC study topic.

Tentative Agenda:

• Welcome and Call to Order by NCC Chair Michael Mueller

• Remarks by Secretary Steven Chu, Department of Energy

• Presentation by Walter Crickmer on Biomass/Coal Blending to Generate Electricity

• Council Business:

○ Finance Report by Committee Chairman Joe Hopf

○ Secretary's Report by NCC Secretary Larry Grimes

○ Election of Officers for the 2010/2011 Term of the Council

• Presentation by Roger Bezdek on Green Transmission: An Opportunity for Clean Coal Technologies

• Other Business

• Adjourn

Public Participation: The meeting is open to the public. If you would like to file a written statement with the Committee, you may do so either before or after the meeting. If you would like to make oral statements regarding any potential items on the agenda, you should contact Michael J. Ducker, 202-586-7810 or Michael.Ducker@HQ.DOE.GOV (e-mail). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/

Issued at Washington, DC on April 16, 2010.
Rachel Samuel,
Deputy Committee Management Officer.

[FR Doc. 2010-9154 Filed 4-20-10; 8:45 am]

BILLING CODE 6450-01-P